CONSUMER PRODUCT SAFETY COMMISSION

[CPSC Docket No. CPSC-2012-0048]

16 CFR Chapter II

All-Terrain Vehicle Safety Summit

AGENCY: Consumer Product Safety Commission.

ACTION: Notification.

SUMMARY: The Consumer Product Safety Commission (CPSC, Commission, or we) is announcing its intent to hold a Summit on all-terrain vehicle (ATV) safety. The Summit will be held at the CPSC's headquarters in Bethesda, MD, on October 11 and 12, 2012. We invite interested parties to participate in or attend the Summit and to submit comments.

DATES: The Summit will be held from 9 a.m. to 4 p.m. on October 11 and 12, 2012. Individuals interested in serving on panels or presenting information at the Summit should register by September 14, 2012; all other individuals who wish to attend the Summit should register by October 5, 2012. Written comments must be received by November 14, 2012.

ADDRESSES: The Summit will be held at the CPSC's headquarters, 4330 East West Highway, 4th Floor Hearing Room, Bethesda, MD 20814. Persons interested in serving on a panel, presenting information, or attending the Summit should register online at http://www.cpsc.gov/meetingsignup.html, and click on the link titled, “ATV Safety Summit.”

You may submit written comments, identified by Docket No. CPSC-2012-0048, by any of the following methods:

Submit electronic comments in the following way:

Federal eRulemaking Portal: http://www.regulations.gov. Follow the instructions for submitting comments. To ensure timely processing of comments, the Commission is no longer accepting comments submitted by electronic mail (email), except through www.regulations.gov.

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

FOR FURTHER INFORMATION CONTACT: Hope Nesteruk, Division of Human Factors, Directorate for Engineering Sciences, 4330 East West Highway, Bethesda, MD 20814, telephone 301-504-7694, email atvsafetysummit@cpsc.gov.

SUPPLEMENTARY INFORMATION:

I. Background

All-terrain vehicles (ATVs) are motorized vehicles, designed for off-road use, with three or four broad, low-pressure tires (less than 10 pounds per square inch), a seat designed to be straddled by the operator, and handlebars for steering. Since the 1980s, the CPSC has been involved with ATV safety through various means, including rulemaking, recalls, and litigation. Currently, ATVs are required to meet the Commission's ATV safety standard at 16 CFR part 1420, and comply with manufacturer and distributor action plans that require numerous additional safety measures. However, a number of ATV issues remain. For example, there are several issues from our 2006 NPR that differ from the requirements of 16 CFR part 1420 and the action plans. In addition, aspects of safety that are related to the behavior of ATV operators, such as use restrictions governing issues such as helmet use, riding on pavement, licensing of drivers, and age restrictions are generally a matter left to the states. Finally, some avenues toward improved ATV safety require additional research that is beyond the Commission's current budget and resources.

CPSC staff is looking toward the future and envisions a two-pronged approach to improving ATV safety: Regulation and stakeholder engagement. Work regarding the 2006 NPR is nearing completion. However, because 6 years have passed since the issuance of the NPR, staff would like to provide stakeholders an opportunity to present their views on the outstanding issues. In addition, once rulemaking is complete, we envision that the next phase of the effort will focus on the different roles each of the various stakeholders can play to achieve the goal we believe every one of these stakeholders support: Keeping families safe on ATVs. With these interests in mind, we are inviting stakeholders to come together for an ATV Safety Summit. This Summit will serve as a forum for stakeholders who have a mutual commitment to ATV safety to share new information, as well as collaborate as a team and seek solutions to common problems.

The Summit will take place over 2 days and will feature a mix of rulemaking and nonrulemaking topic areas. There will be a series of panel discussions each day focused on a different topic of ATV safety. The details of the various topics are found in section III. The panel sessions will begin with presentations from each panelist and will be followed by a question, answer, and discussion forum. Every forum will be an open discussion led by CPSC staff moderators where attendees can speak freely. The discussions centering on our rulemaking will allow attendees to discuss the open rulemaking, and these discussions may be used to inform our future rulemaking. The discussion focusing on new innovations in ATV safety will allow stakeholders to work together to achieve common goals, develop possible solutions, and address actions that each stakeholder can perform to advance the goal of keeping families safe on ATVs.

II. What do we hope the summit will accomplish?

Our primary goal in this ATV Safety Summit is to bring together the stakeholders, including manufacturers, consumer advocates, academic researchers, and others with an interest in ATV safety, in an environment that fosters mutual respect and that encourages the sharing of information. We hope that by sharing lessons learned regarding public awareness, information/education, training, and technology, the groups each can take away information and ideas that will help everyone promote ATV safety. In addition, for issues that are not related to our current rulemaking effort, we want to encourage stakeholders to work together to develop solutions to ATV issues apart from any effort or assistance by the CPSC.

Because there are some differences between the regulations we proposed in 2006 and the regulations we promulgated after passage of the CPSIA, a secondary goal of the Summit is to give stakeholders the opportunity to inform CPSC staff of any new developments in these areas. More specifically, we are interested in learning about new developments in the areas of ATV lighting, consumer point-of-purchase information, and youth ATVs (speeds, size, weight, and transmission).

III. What topics will be addressed at the summit?

In general, the Summit will focus on the overall theme: “Keeping Families Safe on ATVs.” We recommend that all potential panelists consider this general theme when preparing. In particular, there are six topics areas that we have identified. Below is a list of the subject of each session and suggested specific topics for each. These suggested topics are meant to be a guideline, but potential panelists should not feel limited only to what is suggested below.

Rulemaking Topic Areas

1. Vehicle Characteristics

• Suggested topics: Vehicle lighting (brake lights and head lights); Age categories; Speeds and transmission for youth ATVs—user acceptance and user abilities; Physical sizing of ATVs

2. Consumer Awareness

• Suggested topics: Point-of-purchase information; on-product warning labels and hang tags

ATV Innovations Topic Areas

1. State Legislation: Effecting Change

• Suggested topics: How to effect change; what works, what doesn't? Successes and failures with other outdoor products

2. ATV Training: Reaching the Next Generation

• Suggested topics: Increasing availability; using new technology; what works, what doesn't?

3. Public Awareness, Information, and Education: Speaking With One Voice

• Suggested topics: What works, what doesn't? Cultural and social media challenges to promoting safe riding

4. Vehicle Technology Innovations

• Suggested topics: Any new innovation—from the proof-of-concept stage or current in-use on ATVs—to advances in the area of lateral stability and rollover protection.

It is difficult to anticipate the number of panelists who will be available for each topic area. Therefore, we have not yet determined the order of the panel sessions. We may combine, expand, or eliminate panel sessions depending on the level of interest. The final schedule will be announced on our Web site by September 28, 2012.

IV. Details Regarding the Summit

A. When and where will the summit be held?

The Summit will be held from 9:00 a.m. to 4:00 p.m. on October 11-12, 2012, at the CPSC Headquarters building at 4330 East West Highway, 4th Floor Hearing Room, Bethesda, MD 20814.

B. How do you register for the summit?

If you would like to be a panelist for a specific session of the Summit, you should register by September 14, 2012. (See the ADDRESSES portion of this document for the Web site link and instructions on where to register.) We also ask that you submit a brief (less than 200 word) abstract of your topic, area of expertise, and desired breakout panel. In the event that more panelists request a particular session than time will allow, staff will select panelists based on considerations such as: Whether the information to be presented has been received in previous open comment periods; what is the individual's familiarity or expertise with the topic to be discussed; is there practical utility in the information to be presented; what is the topic's relevance to the identified theme and topic area; what is the individual's viewpoint or ability to represent certain interests (e.g., such as large manufacturers, small manufacturers, academic researchers, consumer organizations). While an effort will be made to accommodate all persons who wish to be panelists, we expect to limit each panel session to no more than five panelists. Therefore, the final number of panelists may be limited. We recommend that individuals and organizations with common interests consolidate or coordinate their panel requests. To assist in making final panelist selections, staff may request potential panelists to submit planned presentations in addition to the initial abstract. We will notify selected panelists by September 21, 2012.

If you wish to attend and participate in the Summit, but you do not wish to be a panelist, you should also register by October 5, 2012, and identify your affiliation. Every effort will be made to accommodate each person's request; however, we may need to limit registration to meet the occupant capacity of our meeting rooms. If you are unable to attend the Summit, it will be available through a webcast, but you will not be able to interact with the panels and presenters, nor will every panel session be available. You do not need to register for the webcast. The panels that are not webcast will be taped and made available for viewing on the CPSC Web site.

If you wish to submit written comments for any reason, you may do so before or after the Summit by any of the methods stated in the ADDRESSES portion of this notice. These comments should be received by November 14, 2012. Comments should focus on new information that was not submitted previously that is related to the topic areas listed above.

C. What will be the format of the summit?

The Summit will open with a plenary session that includes a brief overview of the Commission's past activities on ATVs. Following that, there will be a series of panels covering the topics listed above. Each panel session will consist of stakeholders and members of the public and will be moderated by CPSC staff. We expect potential panelists to speak for approximately 10 minutes each about their topic area. At the conclusion of the panel's presentations, there will be a question, answer, and discussion session among the panelists and the audience, centering on the topics discussed by the panelists. Each panel session will be approximately 1 hour and 45 minutes.

For the topics not related to rulemaking activities, a CPSC moderator will work with the group to help identify common goals, possible solutions, and actions each stakeholder can take, independent of any action, effort, or funding from the CPSC. We are not soliciting or accepting any advice from the group as a whole; instead, we are seeking to encourage the stakeholders to find common ground to move forward.

For the topic areas related to our rulemaking effort, a CPSC staff member will moderate the panel session to focus the discussion on our open rulemaking topics. We are seeking new information that may be used to inform our rulemaking.

All attendees will be given the opportunity to ask questions and make comments during the panel session. At the close of the afternoon session, all groups will join for a plenary session, during which the groups will report on the results of their discussions.

D. What happens if few people register for the summit?

If fewer than 15 panelists or less than 30 participants register for the Summit, we may cancel the Summit. If we decide to cancel the Summit for this or any other reason, we will post a cancellation notice on the registration Web page for the Summit and send an email to all registered participants who provide their email address when they register.

Dated: August 22, 2012.
Todd A. Stevenson,
Secretary, Consumer Product Safety Commission.

[FR Doc. 2012-21011 Filed 8-24-12; 8:45 am]

BILLING CODE 6355-01-P